SMALL BUSINESS ADMINISTRATION

Military Reservist Economic Injury Disaster Loans; Interest Rate for First Quarter FY 2024

AGENCY: Small Business Administration.

ACTION: Notice.

SUMMARY: This is a notice for the Military Reservist Economic Injury Disaster Loans interest rate for loans approved on or after October 31, 2023.

DATES: Issued on November 30, 2023.

FOR FURTHER INFORMATION CONTACT: Robert Blocker, Office of Financial Assistance, U.S. Small Business Administration, at robert.blocker@sba.gov; or (202) 619-0477.

SUPPLEMENTARY INFORMATION: The Small Business Administration publishes an interest rate for Military Reservist Economic Injury Disaster Loans (13 CFR 123.512) on a quarterly basis. The interest rate will be 4.000 for loans approved on or after October 31, 2023.

Robert Blocker,
Chief, Disaster Loan Policy Division, Office of Financial Assistance.

[FR Doc. 2023-26397 Filed 12-5-23; 8:45 am]

BILLING CODE 8026-09-P